DEPARTMENT OF HEALTH AND HUMAN SERVICES

Meetings of the National Biodefense Science Board

AGENCY: Office of the Secretary, Department of Health and Human Services.

ACTION: Notice.

SUMMARY: As stipulated by the Federal Advisory Committee Act, the U.S. Department of Health and Human Services is hereby giving notice that the National Biodefense Science Board (NBSB) will be holding a public meeting on September 12, 2013.

DATES: The September 12, 2013, NBSB public meeting is tentatively scheduled from 1:00 p.m. to 3:00 p.m. EST, both in-person in Washington, DC and with teleconference connectivity. The agenda for the September 12, 2013 public meeting is subject to change as priorities dictate. Please check the NBSB Web site at WWW.PHE.GOV/NBSB for the most up-to-date information and for all attendance information.

ADDRESSES: U.S. Department of Health and Human Services, Hubert H. Humphrey Building, 200 Independence Avenue SW., Washington, DC 20201. Pre-registration is required for all members of the public wishing to attend this meeting in-person by September 5, 2013; all attendees must be signed in by a federal staff member. To attend either in-person or by teleconference, please refer to the NBSB Web site for further instructions at WWW.PHE.GOV/NBSB. Please arrive, or call in, 15 minutes prior to the beginning of the meeting to facilitate attendance.

Additional Information for Public Participants: These meetings are open to the public and are limited only by the space available. Meeting rooms will accommodate up to 25 people. Pre-registration is required for in-person attendance. Individuals who wish to attend the meeting in-person should send an email to NBSB@HHS.GOV with “NBSB Registration” in the subject line by no later than Thursday, September 5, 2013.

FOR FURTHER INFORMATION CONTACT: The National Biodefense Science Board mailbox: NBSB@HHS.GOV.

SUPPLEMENTARY INFORMATION: Pursuant to section 319M of the Public Health Service Act (42 U.S.C. 247d-7f ) and section 222 of the Public Health Service Act (42 U.S.C. 217a), the Department of Health and Human Services (HHS) established the National Biodefense Science Board. The Board shall provide expert advice and guidance to the Secretary on scientific, technical, and other matters of special interest to HHS regarding current and future chemical, biological, nuclear, and radiological agents, whether naturally occurring, accidental, or deliberate. The Board may also provide advice and guidance to the Secretary and/or the Assistant Secretary for Preparedness and Response (ASPR) on other matters related to public health emergency preparedness and response.

Background: Part of the September 12, 2013, public meeting will be dedicated to the NBSB's deliberation and vote on the findings from the Situational Awareness Working Group; the remainder of the meeting will be dedicated to presentation of a potential new task to the NBSB, and an overview of NBSB accomplishments presented by the NBSB Chair, Dr. John Parker. Subsequent agenda topics will be added as priorities dictate. Any additional agenda topics will be available on the NBSB's September 2013 meeting Web page prior to the public meeting, available at WWW.PHE.GOV/NBSB.

Availability of Materials: The meeting agenda and materials will be posted on the NBSB Web site at WWW.PHE.GOV/NBSB prior to the meeting.

Procedures for Providing Public Input: All members of the public are encouraged to provide written comment to the NBSB. All written comments must be received prior to September 9, 2013, and should be sent by email to NBSB@HHS.GOV with “NBSB Public Comment” as the subject line. Individuals planning to attend and need special assistance, such as sign language interpretation or other reasonable accommodations, should email NBSB@HHS.GOV.

Dated: August 20, 2013.
Nicole Lurie,
Assistant Secretary for Preparedness and Response.

[FR Doc. 2013-20793 Filed 8-26-13; 8:45 am]

BILLING CODE 4150-37-P